DEPARTMENT OF ENERGY

International Energy Agency Meeting

AGENCY: Department of Energy.

ACTION: Notice of meeting.

SUMMARY: The Industry Advisory Board to the International Energy Agency (IEA) will meet on June 17, 2003, at the headquarters of the IEA in Paris, France in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on June 17, 2003, beginning at 8:30 a.m. The purpose of this notice is to permit attendance by representatives of U.S. company members of the IAB at a meeting of the IEA's Standing Group on Emergency Questions (SEQ), which is scheduled to be held at the IEA on June 17, beginning at 9:30 a.m., including a preparatory encounter among company representatives from approximately 8:30 a.m. to 9 a.m.

The agenda for the preparatory encounter among company representatives is a review of the SEQ's meeting agenda. The agenda of the SEQ meeting is under the control of the SEQ. It is expected that the SEQ will adopt the following agenda:

1. Adoption of the Agenda

2. Approval of the Summary Record of the 107th Meeting

3. Program of Work 2003-2004

—Review of EPPD Activities, 2003-2004

—First Steps towards Emergency Response Exercise 3

4. Update on Compliance with International Energy Program Stockholding Commitments

5. The Current Oil Market Situation

6. Report on the Meeting of the Governing Board at the Ministerial Level

7. Review of Recent Political Events and their Impact on Oil Supply

—Review of IEA emergency responses

—Iraq

8. Report on Current Activities of the IAB

9. Other Policy and Legislative Developments in Member Countries

10. Activities with Non-Member Countries and International Organizations

—Workshop on ASEAN Oil Security and Emergency Preparedness, Fall, 2003

—Update on Stockholding Conference, Berlin, Sept. 19, 2003

—Joint Oil Data Initiative (JODI), Cairo, Fall, 2003

—Stockbuilding Workshop in India, late Fall, 2003

—Update on China's Stockbuilding

—Comparison of IEA and European Union Stockholding Obligations

11. Other Emergency Response Activities

—Results of Questionnaire on Minimum Operating Requirements

12. Emergency Response Reviews of IEA Member and Candidate Countries

—Revised Schedule of Emergency Response Reviews for 2003-2004

13. Other Documents for Information

—Emergency Reserve Situation of IEA Member Countries on April 1, 2003

—Emergency Reserve Situation of IEA Candidate Countries on April 1, 2003

—Monthly Oil Statistics: March 2003

—Base Period Final Consumption (BPFC): 2Q2002-1Q2003

—Quarterly Oil Forecast: Second Quarter 2003

—Panel of Arbitrators: Curriculum Vitae of J. Pešek

—Update of Emergency Contacts List

14. Other Business

—Dates of Next Meetings:

—November 18-20, 2003

—March 16-18, 2004

As provided in section 252(c)(1)(A)(ii) of the Energy Policy and Conservation Act (42 U.S.C. 6272(c)(1)(A)(ii)), this meeting is open only to representatives of members of the IAB and their counsel; representatives of members of the SEQ; representatives of the Departments of Energy, Justice, and State, the Federal Trade Commission, the General Accounting Office, Committees of Congress, the IEA, and the European Commission; and invitees of the IAB, the SEQ, or the IEA.

Issued in Washington, DC, June 3, 2003.
Samuel M. Bradley,
Assistant General Counsel for International and National Security Programs.

[FR Doc. 03-14418 Filed 6-6-03; 8:45 am]

BILLING CODE 6450-01-P